DEPARTMENT OF THE TREASURY

Internal Revenue Service

Open Meeting of Citizen Advocacy Panel, So. Florida District

AGENCY: Internal Revenue Service (IRS), Treasury.

ACTION: Notice.

SUMMARY: An open meeting of the South Florida District Citizen Advocacy Panel will be held in Stuart, Florida.

DATES: The meeting will be held Friday, June 23, 2000 and Saturday, June 24, 2000.

FOR FURTHER INFORMATION CONTACT: Nancy Ferree at 1-888-912-1227 or 954-423-7974.

SUPPLEMENTARY INFORMATION: Notice is hereby given pursuant to Section 10(a)(2) of the Federal Advisory Committee Act, 5 U.S.C. App. (1988) that a Public meeting of the Citizen Advocacy Panel will be held Friday, June 23, 2000, 6 p.m. to 9 p.m. and Saturday, June 24, 2000, 9 a.m. to Noon at the Stuart/Martin County Chamber of Commerce, 1650 South Kanner Highway, Stuart, FL 34994. For more information contact Nancy Ferree at 1-888-912-1227 or 954-423-7974. The public is invited to make oral comments. Individual comments will be limited to 10 minutes. If you would like to have the CAP consider a written statement, please call 1-888-912-1227 or 954-423-7974, or write Nancy Ferree, CAP Office, 7771 W. Oakland Park Blvd #225, Sunrise, FL, 33351. Due to limited space, notification of intent to attend the meeting must be made with Nancy Ferree. Ms. Ferree can be reached at 1-888-912-1227 or 954-423-7973. In accordance with the American's With Disabilities Act, persons with special needs should call Nancy Ferree at 954-423-7973 to inform us of those needs by no later than June 16, 2000. The Agenda will include the following: various IRS issues.

Note: Last minute changes to the agenda are possible and could prevent effective advance notice.

Dated: May 25, 2000.
M. Cathy Vanhorn,
Director, CAP, Communications and Liaison.

[FR Doc. 00-14009 Filed 6-2-00; 8:45 am]

BILLING CODE 4830-01-P